ENVIRONMENTAL PROTECTION AGENCY

40 CFR Part 81

[EPA-HQ-OAR-2012-0918; FRL-9951-91-OAR]

Air Quality Designations for the 2012 Primary Annual Fine Particle (PM2.5) National Ambient Air Quality Standard (NAAQS) for Areas in Georgia and Florida

AGENCY: Environmental Protection Agency.

ACTION: Final rule.

SUMMARY: The Environmental Protection Agency (EPA) is establishing air quality designations in the United States (U.S.) for the 2012 primary annual fine particle (PM2.5) National Ambient Air Quality Standard (NAAQS) for three areas in Georgia and 62 counties in Florida. When the EPA designated the majority of areas in the country in December 2014, and March 2015, the EPA deferred initial area designations for several locations, including these areas, because the EPA could not determine using available data whether the areas were meeting or not meeting the NAAQS, but we believed that forthcoming data in 2015 would allow the EPA to make that determination. Georgia and Florida have recently submitted complete, quality-assured, and certified air quality monitoring data for 2015 for the areas identified in this notice, and based on these data, the EPA is designating these areas as unclassifiable/attainment for the 2012 primary annual PM2.5 NAAQS.

DATES: This final rule is effective on October 6, 2016.

ADDRESSES: The EPA has established a docket for this action under Docket ID No. EPA-HQ-OAR-2012-0918. All documents in the docket are listed in the http://www.regulations.gov Web site. Although listed in the index, some information is not publicly available, i.e., Confidential Business Information or other information whose disclosure is restricted by statute. Certain other material, such as copyrighted material, is not placed on the Internet and will be publicly available only in hard copy form. Publicly available docket materials are available either electronically in http://www.regulations.gov.

In addition, the EPA has established a Web site for the rulemakings to initially designate areas for the 2012 primary annual PM2.5 NAAQS at: https://www3.epa.gov/pmdesignations/2012standards/index.htm. This Web site includes the EPA's final area designations for the PM2.5 NAAQS, as well as state and tribal initial recommendation letters, the EPA's modification letters, technical support documents, responses to comments and other related technical information.

FOR FURTHER INFORMATION CONTACT: For general questions concerning this action, please contact Carla Oldham, U.S. EPA, Office of Air Quality Planning and Standards, Air Quality Planning Division, C539-04, Research Triangle Park, North Carolina 27711, telephone (919) 541-3347, email at oldham.carla@epa.gov. The Region 4 contact is Madolyn Sanchez, U.S. EPA, Air Regulatory Management Section, Air Planning and Implementation Branch, Air, Pesticides and Toxics Management Division, 61 Forsyth Street SW., Atlanta, Georgia 30303-8960, telephone (404) 562-9644, email at sanchez.madolyn@epa.gov.

SUPPLEMENTARY INFORMATION:

I. Background

On December 14, 2012, the EPA promulgated a revised primary annual PM2.5 NAAQS to provide increased protection of public health from fine particle pollution (78 FR 3086; January 15, 2013). In that action, the EPA strengthened the primary annual PM2.5 standard from 15.0 micrograms per cubic meter (μg/m³) to 12.0 μg/m³, which is attained when the 3-year average of the annual arithmetic means does not exceed 12.0 μg/m³.

Section 107(d) of the Clean Air Act (CAA), 42 U.S.C. 7407(d), governs the process for initial area designations after the EPA establishes a new or revised NAAQS. Under CAA section 107(d), each governor is required to, and each tribal leader may, if they so choose, recommend air quality designations, including the appropriate boundaries for “nonattainment” areas, to the EPA by a date which cannot be later than 1 year after the promulgation of a new or revised NAAQS. The EPA considers these recommendations as part of its duty to promulgate the area designations and boundaries for the new or revised NAAQS. If, after careful consideration of these recommendations, the EPA believes that it is necessary to modify a state's recommendation and intends to promulgate a designation different from a state's recommendation, the EPA must notify the state at least 120 days prior to promulgating the final designation and the EPA must provide the state an opportunity to demonstrate why any proposed modification is inappropriate. These modifications may relate either to an area's designation or boundaries.

On December 18, 2014, the Administrator of the EPA signed a final action promulgating initial designations for the 2012 PM2.5 NAAQS for the majority of the U.S., including areas of Indian country (80 FR 2206 FR; January 15, 2015). That action designated 14 areas in six states, including two multi-state areas, as nonattainment for the 2012 PM2.5 NAAQS. The EPA also designated three areas, including the entire state of Illinois, as “unclassifiable” because the ambient air quality monitoring sites in these areas lacked complete data for the relevant period from 2011-2013. In the absence of complete monitoring data, the EPA could not determine, based on available information, whether these areas meet or do not meet the NAAQS, and also could not determine whether these areas contribute to a nearby violation. Consistent with the EPA's “Policy for Establishing Separate Air Quality Designations for Areas of Indian Country” (December 20, 2011), the EPA designated the lands of the Pechanga Band of Luiseño Mission Indians in Southern California as an unclassifiable/attainment area separate from its adjacent/surrounding state areas. Except for the 10 areas discussed in the next paragraph, the EPA designated all the remaining state areas and areas of Indian country as unclassifiable/attainment.

The EPA deferred initial area designations for 10 areas where available data, including air quality monitoring data, were insufficient to determine whether the areas met or did not meet the NAAQS, but where forthcoming data were likely to result in complete and valid air quality data sufficient to determine whether these areas meet the NAAQS. Accordingly, the EPA stated that it would use the additional time available as provided under section 107(d)(1)(B) of the CAA to assess relevant information and subsequently promulgate initial designations for the identified areas through a separate rulemaking action or actions. The 10 deferred areas included: Eight areas in the state of Georgia, including two neighboring counties in the bordering states of Alabama and South Carolina; the entire state of Tennessee, excluding three counties in the Chattanooga area; the entire state of Florida; and areas of Indian country located in these areas.

In the action published on January 15, 2015, the EPA also described a process by which we would evaluate any complete, quality-assured, certified air quality monitoring data from 2014 that a state submitted for consideration before February 27, 2015 (80 FR 2209). The EPA stated that it would evaluate whether, with the inclusion of certified 2014 data, the 3-year design value for 2012-2014 suggests that a change in the initial designation would be appropriate for an area. If the EPA agreed that a change in the initial designation would be appropriate, the EPA would withdraw the designation announced in the January 15, 2015, action for such area before the effective date and issue another designation reflecting the inclusion of 2014 data (80 FR 2209).

In the follow-up designation action, published on April 15, 2015 (80 FR 18535), the EPA designated five areas in the state of Georgia, including two neighboring counties in the bordering states of Alabama and South Carolina, that were initially deferred in the EPA's January 15, 2015, rulemaking. In the same action, the EPA changed the designation of one area in Ohio, two areas in Pennsylvania, one area shared between Indiana and Kentucky, and one area shared between Kentucky and Ohio. Following that action, designations remained deferred for three areas (covering 14 counties) in Georgia, the entire state of Tennessee (covering 92 counties, excluding three counties in the Chattanooga area), the entire state of Florida (covering 67 counties), and areas of Indian country located in those areas.

II. Purpose and Designation Decisions Based on 2013-2015 Data

The purpose of this action is to announce and promulgate initial area designations of unclassifiable/attainment for the 2012 PM2.5 NAAQS for three areas in Georgia,¹ 62 counties in Florida, and Indian country located at least partially in these areas. All of these areas were initially deferred in the EPA's January 15, 2015, rulemaking.² Since then, the states of Georgia and Florida submitted to the EPA complete, quality-assured, and certified air quality monitoring data from 2013-2015 for these deferred areas. These data provide the EPA with sufficient information to promulgate initial designations for the three areas in Georgia, 62 counties in Florida, and the associated areas of Indian country at issue in this action. Air quality data collected and submitted to the EPA for 2013-2015 for these areas indicate that the areas are attaining the 2012 PM2.5 NAAQS and are not causing or contributing to a violation of the NAAQS in a nearby area. Therefore, the EPA is designating the three areas in Georgia as unclassifiable/attainment. Also, consistent with the EPA's practice in prior rounds of initial area designations for the 2012 PM2.5 NAAQS, EPA is designating 62 counties in Florida as unclassifiable/attainment.³ Areas of Indian country located in these areas are also being designated as unclassifiable/attainment. These designations are consistent with Georgia's and Florida's recommended area designations and boundaries for these areas for the 2012 PM2.5 standard. The tables at the end of this final rule (amendments to 40 CFR 81.310—Florida and 40 CFR 81.311—Georgia) list all areas for which the EPA has promulgated an initial designation in each of these two states. Areas of Indian country located in the listed areas are included in the designated area.

¹ The areas in Georgia are Albany (Dougherty County); Atlanta (Bartow, Cherokee, Clayton, Cobb, Coweta, DeKalb, Douglas, Forsyth, Fulton, Gwinnett, Henry, and Paulding Counties); and Brunswick (Glynn County).

² See also the technical support documents for the deferred Georgia and Florida areas in the rulemaking docket, documents numbered EPA-HQ-OAR-2012-0918-0324 and EPA-HQ-OAR-2012-0918-0156 (Georgia); and EPA-HQ-OAR-2012-0918-0323 and EPA-HQ-2012-0918-0332 (Florida).

³ The EPA has used a weight-of-evidence evaluation to determine an appropriate designation for counties that are adjacent to areas that remain undesignated. See Docket No. EPA-HQ-OAR-2012-0918-0324, Georgia Deferred Area Memorandum, discussing certain types of counties “most likely to contribute to a violation of the NAAQS”.

III. Environmental Justice Considerations

The CAA requires the EPA to determine through a designation process whether an area meets or does not meet any new or revised national primary or secondary ambient air quality standard. This action includes initial designation determinations for several areas of the U.S. for the 2012 annual PM2.5 NAAQS. Area designations ensure that the public is properly informed about the air quality in an area and that, in locations where air quality does not meet the NAAQS, the relevant state authorities are required to initiate appropriate air quality management actions under the CAA to ensure that all those residing, working, attending school or otherwise present in those areas are protected, regardless of minority and economic status.

IV. Statutory and Executive Order Reviews

A. Executive Order 12866: Regulatory Planning and Review and Executive Order 13563: Improving Regulation and Regulatory Review

This action is exempt from review by the Office of Management and Budget because it responds to the CAA requirement to promulgate air quality designations after promulgation of a new or revised NAAQS.

B. Paperwork Reduction Act (PRA)

This action does not impose an information collection burden under the PRA. This action fulfills the non-discretionary duty for the EPA to promulgate air quality designations after promulgation of a new or revised NAAQS and does not contain any information collection activities.

C. Regulatory Flexibility Act (RFA)

This designation action under CAA 107(d) is not subject to the RFA. The RFA applies only to rules subject to notice and comment rulemaking requirements under the Administrative Procedure Act (APA), 5 U.S.C. 553, or any other statute. Section 107(d)(2)(B) of the CAA explicitly provides that designations are exempt from the notice and comment provisions of the APA. In addition, designations under section 107(d) are not among the list of actions that are subject to the notice and comment procedures of CAA section 307(d).

D. Unfunded Mandates Reform Act (UMRA)

This action does not contain any unfunded mandate as described in UMRA, 2 U.S.C. 1531-1538 and does not significantly or uniquely affect small governments. The action implements mandates specifically and explicitly set forth in the CAA for the 2012 PM2.5 NAAQS (40 CFR 50.18). The CAA establishes the process whereby states take primary responsibility for developing plans to meet the 2012 PM2.5 NAAQS.

E. Executive Order 13132: Federalism

This action does not have federalism implications. It will not have a substantial direct effects on the states, on the relationship between the national government and the states, or on the distribution of power and responsibilities among the various levels of government.

F. Executive Order 13175: Consultation and Coordination With Indian Tribal Governments

This action has tribal implications. However, it will neither impose substantial direct compliance costs on federally recognized tribal governments, nor preempt tribal law. Areas of Indian country are being designated unclassifiable/attainment as part of this action.

The EPA offered consultation to tribal officials under the EPA Policy on Consultation and Coordination with Indian Tribes early in the process to designate areas for the 2012 PM2.5 NAAQS to permit them to have meaningful and timely input. In letters dated May 29, 2014, the EPA encouraged tribes to participate in the designations process, request consultation, and submit recommendations. The EPA again offered the opportunity for consultation in letters sent on August 19, 2014. The Seminole Tribe of Florida, which has areas of Indian country affected by this designation action, did not request consultation, nor did they provide a recommendation for designations. Therefore, the EPA did not initiate the consultation process with the tribe for this designation action.

G. Executive Order 13045: Protection of Children From Environmental Health and Safety Risks

The EPA interprets Executive Order 13045 as applying to those regulatory actions that concern environmental health or safety risks that the EPA has reason to believe may disproportionately affect children, per the definition of “covered regulatory action” in section 2-202 of the Executive Order. This action is not subject to Executive Order 13045 because it does not establish an environmental standard intended to mitigate health or safety risks.

H. Executive Order 13211: Actions That Significantly Affect Energy Supply, Distribution or Use

This action is not subject to Executive Order 13211, because it is not a significant regulatory action under Executive Order 12866.

I. National Technology Transfer and Advancement Act (NTTAA)

This rulemaking does not involve technical standards.

J. Executive Order 12898: Federal Actions To Address Environmental Justice in Minority Populations and Low-Income Populations

The EPA believes the human health or environmental risk addressed by this action will not have potential disproportionately high and adverse human health or environmental effects on any population, including any minority, low-income or indigenous populations because it does not affect the level of protection provided to human health or the environment. The results of this evaluation of environmental justice considerations is contained in Section III of this preamble titled, “Environmental Justice Considerations.”

K. Congressional Review Act (CRA)

This action is subject to the CRA, and the EPA will submit a rule report to each House of the Congress and to the Comptroller General of the U.S. This action is not a “major rule” as defined by 5 U.S.C. 804(2).

L. Judicial Review

Section 307(b)(1) of the CAA indicates which Federal Courts of Appeal have venue for petitions of review of final actions by the EPA. This section provides, in part, that petitions for review must be filed in the Court of Appeals for the District of Columbia Circuit: (i) When the agency action consists of “nationally applicable regulations promulgated, or final actions taken by the Administrator,” or (ii) when such action is locally or regionally applicable, if “such action is based on a determination of nationwide scope or effect and if in taking such action the Administrator finds and publishes that such action is based on such a determination.”

This final action designating areas across the U.S. for the 2012 annual PM2.5 NAAQS is “nationally applicable” within the meaning of CAA section 307(b)(1). At the core of this final action is the EPA's interpretations of the definitions of nonattainment, attainment and unclassifiable under section 107(d)(1) of the CAA, and its application of those interpretations to areas across the country. For the same reasons, the Administrator is also determining that the final designations are of nationwide scope and effect for the purposes of CAA section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this final action extends to numerous judicial circuits since the designations apply to areas across the country. In these circumstances, CAA section 307(b)(1) and its legislative history calls for the Administrator to find the action to be of “nationwide scope or effect” and for venue to be in the D.C. Circuit.

Thus, any petitions for review of final designations must be filed in the Court of Appeals for the District of Columbia Circuit within 60 days from the date final action is published in the Federal Register.

List of Subjects in 40 CFR Part 81

Environmental protection, Air pollution control, National parks, Wilderness areas.

Dated: August 30, 2016.
Gina McCarthy,
Administrator.

For the reasons set forth in the preamble, 40 CFR part 81 is amended as follows:

PART 81—DESIGNATIONS OF AREAS FOR AIR QUALITY PLANNING PURPOSES

1. The authority citation for part 81 continues to read as follows:

Authority: 42 U.S.C. 7401, et. seq.

Subpart C—Section 107 Attainment Status Designations

2. Section 81.310 is amended by revising the table entitled “Florida—2012 Annual PM2.5 NAAQS (Primary)” to read as follows:

§ 81.310 Florida.

* * * * *

Florida—2012 Annual PM2.5 NAAQS
[Primary]
Designated area ¹ | Designation: Date ² | Designation: Type | Classification: Date ² | Classification: Type
Statewide:
Alachua County
Baker County |  | Unclassifiable/Attainment.
Bay County |  | Unclassifiable/Attainment.
Bradford County |  | Unclassifiable/Attainment.
Brevard County |  | Unclassifiable/Attainment.
Broward County
Calhoun County |  | Unclassifiable/Attainment.
Charlotte County |  | Unclassifiable/Attainment.
Citrus County |  | Unclassifiable/Attainment.
Clay County |  | Unclassifiable/Attainment.
Collier County |  | Unclassifiable/Attainment.
Columbia County |  | Unclassifiable/Attainment.
DeSoto County |  | Unclassifiable/Attainment.
Dixie County |  | Unclassifiable/Attainment.
Duval County |  | Unclassifiable/Attainment.
Escambia County |  | Unclassifiable/Attainment.
Flagler County |  | Unclassifiable/Attainment.
Franklin County |  | Unclassifiable/Attainment.
Gadsden County |  | Unclassifiable/Attainment.
Gilchrist County
Glades County |  | Unclassifiable/Attainment.
Gulf County |  | Unclassifiable/Attainment.
Hamilton County |  | Unclassifiable/Attainment.
Hardee County |  | Unclassifiable/Attainment.
Hendry County ³ |  | Unclassifiable/Attainment.
Hernando County |  | Unclassifiable/Attainment.
Highlands County |  | Unclassifiable/Attainment.
Hillsborough County |  | Unclassifiable/Attainment.
Holmes County |  | Unclassifiable/Attainment.
Indian River County |  | Unclassifiable/Attainment.
Jackson County |  | Unclassifiable/Attainment.
Jefferson County |  | Unclassifiable/Attainment.
Lafayette County |  | Unclassifiable/Attainment.
Lake County |  | Unclassifiable/Attainment.
Lee County |  | Unclassifiable/Attainment.
Leon County |  | Unclassifiable/Attainment.
Levy County |  | Unclassifiable/Attainment.
Liberty County |  | Unclassifiable/Attainment.
Madison County |  | Unclassifiable/Attainment.
Manatee County |  | Unclassifiable/Attainment.
Marion County |  | Unclassifiable/Attainment.
Martin County |  | Unclassifiable/Attainment.
Miami-Dade County
Monroe County |  | Unclassifiable/Attainment.
Nassau County |  | Unclassifiable/Attainment.
Okaloosa County |  | Unclassifiable/Attainment.
Okeechobee County |  | Unclassifiable/Attainment.
Orange County |  | Unclassifiable/Attainment.
Osceola County |  | Unclassifiable/Attainment.
Palm Beach County
Pasco County |  | Unclassifiable/Attainment.
Pinellas County |  | Unclassifiable/Attainment.
Polk County |  | Unclassifiable/Attainment.
Putnam County |  | Unclassifiable/Attainment.
St. Johns County |  | Unclassifiable/Attainment.
St. Lucie County |  | Unclassifiable/Attainment.
Santa Rosa County |  | Unclassifiable/Attainment.
Sarasota County |  | Unclassifiable/Attainment.
Seminole County |  | Unclassifiable/Attainment.
Sumter County |  | Unclassifiable/Attainment.
Suwanee County |  | Unclassifiable/Attainment.
Taylor County |  | Unclassifiable/Attainment.
Union County |  | Unclassifiable/Attainment.
Volusia County |  | Unclassifiable/Attainment.
Wakulla County |  | Unclassifiable/Attainment.
Walton County |  | Unclassifiable/Attainment.
Washington County |  | Unclassifiable/Attainment.
¹ Includes areas of Indian country located in each county or area, except as otherwise specified.
² This date is October 6, 2016, unless otherwise noted.
³ Includes the Seminole Tribe of Florida Big Cypress Indian Reservation in its entirety.

* * * * *

3. Section 81.311 is amended by revising the table entitled “Georgia—2012 Annual PM2.5 NAAQS (Primary)” to read as follows:

§ 81.311 Georgia.

* * * * *

Georgia—2012 Annual PM2.5 NAAQS
[Primary]
Designated area ¹ | Designation: Date ² | Designation: Type | Classification: Date ² | Classification: Type
Statewide:
Appling County |  | Unclassifiable/Attainment
Atkinson County |  | Unclassifiable/Attainment
Bacon County |  | Unclassifiable/Attainment
Baker County |  | Unclassifiable/Attainment
Baldwin County |  | Unclassifiable/Attainment
Banks County |  | Unclassifiable/Attainment
Barrow County |  | Unclassifiable/Attainment
Bartow County | October 6, 2016 | Unclassifiable/Attainment
Ben Hill County |  | Unclassifiable/Attainment
Berrien County |  | Unclassifiable/Attainment
Bibb County |  | Unclassifiable/Attainment
Bleckley County |  | Unclassifiable/Attainment
Brantley County |  | Unclassifiable/Attainment
Brooks County |  | Unclassifiable/Attainment
Bryan County |  | Unclassifiable/Attainment
Bulloch County |  | Unclassifiable/Attainment
Burke County |  | Unclassifiable/Attainment
Butts County |  | Unclassifiable/Attainment
Calhoun County |  | Unclassifiable/Attainment
Camden County |  | Unclassifiable/Attainment
Candler County |  | Unclassifiable/Attainment
Carroll County |  | Unclassifiable/Attainment
Catoosa County |  | Unclassifiable/Attainment
Charlton County |  | Unclassifiable/Attainment
Chatham County |  | Unclassifiable/Attainment
Chattahoochee County |  | Unclassifiable/Attainment
Chattooga County |  | Unclassifiable/Attainment
Cherokee County | October 6, 2016 | Unclassifiable/Attainment
Clarke County |  | Unclassifiable/Attainment
Clay County |  | Unclassifiable/Attainment
Clayton County | October 6, 2016 | Unclassifiable/Attainment
Clinch County |  | Unclassifiable/Attainment
Cobb County | October 6, 2016 | Unclassifiable/Attainment
Coffee County |  | Unclassifiable/Attainment
Colquitt County |  | Unclassifiable/Attainment
Columbia County |  | Unclassifiable/Attainment
Cook County |  | Unclassifiable/Attainment
Coweta County | October 6, 2016 | Unclassifiable/Attainment
Crawford County |  | Unclassifiable/Attainment
Crisp County |  | Unclassifiable/Attainment
Dade County |  | Unclassifiable/Attainment
Dawson County |  | Unclassifiable/Attainment
Decatur County |  | Unclassifiable/Attainment
DeKalb County | October 6, 2016 | Unclassifiable/Attainment
Dodge County |  | Unclassifiable/Attainment
Dooly County |  | Unclassifiable/Attainment
Dougherty County | October 6, 2016 | Unclassifiable/Attainment
Douglas County | October 6, 2016 | Unclassifiable/Attainment
Early County |  | Unclassifiable/Attainment
Echols County |  | Unclassifiable/Attainment
Effingham County |  | Unclassifiable/Attainment
Elbert County |  | Unclassifiable/Attainment
Emanuel County |  | Unclassifiable/Attainment
Evans County |  | Unclassifiable/Attainment
Fannin County |  | Unclassifiable/Attainment
Fayette County |  | Unclassifiable/Attainment
Floyd County |  | Unclassifiable/Attainment
Forsyth County | October 6, 2016 | Unclassifiable/Attainment
Franklin County |  | Unclassifiable/Attainment
Fulton County | October 6, 2016 | Unclassifiable/Attainment
Gilmer County |  | Unclassifiable/Attainment
Glascock County |  | Unclassifiable/Attainment
Glynn County | October 6, 2016 | Unclassifiable/Attainment
Gordon County |  | Unclassifiable/Attainment
Grady County |  | Unclassifiable/Attainment
Greene County |
Gwinnett County | October 6, 2016 | Unclassifiable/Attainment
Habersham County |  | Unclassifiable/Attainment
Hall County |  | Unclassifiable/Attainment
Hancock County |  | Unclassifiable/Attainment
Haralson County |  | Unclassifiable/Attainment
Harris County |  | Unclassifiable/Attainment
Hart County |  | Unclassifiable/Attainment
Heard County |  | Unclassifiable/Attainment
Henry County | October 6, 2016 | Unclassifiable/Attainment
Houston County |  | Unclassifiable/Attainment
Irwin County |  | Unclassifiable/Attainment
Jackson County |  | Unclassifiable/Attainment
Jasper County |  | Unclassifiable/Attainment
Jeff Davis County |  | Unclassifiable/Attainment
Jefferson County |  | Unclassifiable/Attainment
Jenkins County |  | Unclassifiable/Attainment
Johnson County |  | Unclassifiable/Attainment
Jones County |  | Unclassifiable/Attainment
Lamar County |  | Unclassifiable/Attainment
Lanier County |  | Unclassifiable/Attainment
Laurens County |  | Unclassifiable/Attainment
Lee County |  | Unclassifiable/Attainment
Liberty County |  | Unclassifiable/Attainment
Lincoln County |  | Unclassifiable/Attainment
Long County |  | Unclassifiable/Attainment
Lowndes County |  | Unclassifiable/Attainment
Lumpkin County |  | Unclassifiable/Attainment
McDuffie County |  | Unclassifiable/Attainment
McIntosh County |  | Unclassifiable/Attainment
Macon County |  | Unclassifiable/Attainment
Madison County |  | Unclassifiable/Attainment
Marion County |  | Unclassifiable/Attainment
Meriwether County |  | Unclassifiable/Attainment
Miller County |  | Unclassifiable/Attainment
Mitchell County |  | Unclassifiable/Attainment
Monroe County |  | Unclassifiable/Attainment
Montgomery County |  | Unclassifiable/Attainment
Morgan County |  | Unclassifiable/Attainment
Murray County |  | Unclassifiable/Attainment
Muscogee County |  | Unclassifiable/Attainment
Newton County |  | Unclassifiable/Attainment
Oconee County |  | Unclassifiable/Attainment
Oglethorpe County |  | Unclassifiable/Attainment
Paulding County | October 6, 2016 | Unclassifiable/Attainment
Peach County |  | Unclassifiable/Attainment
Pickens County |  | Unclassifiable/Attainment
Pierce County |  | Unclassifiable/Attainment
Pike County |  | Unclassifiable/Attainment
Polk County |  | Unclassifiable/Attainment
Pulaski County |  | Unclassifiable/Attainment
Putnam County |  | Unclassifiable/Attainment
Quitman County |  | Unclassifiable/Attainment
Rabun County |  | Unclassifiable/Attainment
Randolph County |  | Unclassifiable/Attainment
Richmond County |  | Unclassifiable/Attainment
Rockdale County |  | Unclassifiable/Attainment
Schley County |  | Unclassifiable/Attainment
Screven County |  | Unclassifiable/Attainment
Seminole County |  | Unclassifiable/Attainment
Spalding County |  | Unclassifiable/Attainment
Stephens County |  | Unclassifiable/Attainment
Stewart County |  | Unclassifiable/Attainment
Sumter County |  | Unclassifiable/Attainment
Talbot County |  | Unclassifiable/Attainment
Taliaferro County |  | Unclassifiable/Attainment
Tattnall County |  | Unclassifiable/Attainment
Taylor County |  | Unclassifiable/Attainment
Telfair County |  | Unclassifiable/Attainment
Terrell County |  | Unclassifiable/Attainment
Thomas County |  | Unclassifiable/Attainment
Tift County |  | Unclassifiable/Attainment
Toombs County |  | Unclassifiable/Attainment
Towns County |  | Unclassifiable/Attainment
Treutlen County |  | Unclassifiable/Attainment
Troup County |  | Unclassifiable/Attainment
Turner County |  | Unclassifiable/Attainment
Twiggs County |  | Unclassifiable/Attainment
Union County |  | Unclassifiable/Attainment
Upson County |  | Unclassifiable/Attainment
Walker County |  | Unclassifiable/Attainment
Walton County |  | Unclassifiable/Attainment
Ware County |  | Unclassifiable/Attainment
Warren County |  | Unclassifiable/Attainment
Washington County |  | Unclassifiable/Attainment
Wayne County |  | Unclassifiable/Attainment
Webster County |  | Unclassifiable/Attainment
Wheeler County |  | Unclassifiable/Attainment
White County |  | Unclassifiable/Attainment
Whitfield County |  | Unclassifiable/Attainment
Wilcox County |  | Unclassifiable/Attainment
Wilkes County |  | Unclassifiable/Attainment
Wilkinson County |  | Unclassifiable/Attainment
Worth County |  | Unclassifiable/Attainment
¹ Includes areas of Indian country located in each county or area, except as otherwise specified.
² This date is April 15, 2015, unless otherwise noted.

* * * * *

[FR Doc. 2016-21338 Filed 9-2-16; 8:45 am]

BILLING CODE 6560-50-P